DEPARTMENT OF COMMERCE

Minority Business Development Agency

[Docket No: 000724218-3028-05]

Native American Business Development Center Applications

AGENCY: Minority Business Development Agency, Commerce.

ACTION: Notice.

SUMMARY: The Minority Business Development Agency (MBDA) is canceling the announcement to solicit competitive applications under its Native American Business Development Center (NABDC) program to operate the New Mexico Statewide NABDC.

SUPPLEMENTARY INFORMATION: Due to budget constraints and other agency priorities, the Minority Business Development Agency is canceling the announcement to solicit competitive applications under its Native American Business Development Center (NABDC) program to operate the New Mexico Statewide NABDC. The solicitation was originally published in the Federal Register notice of Wednesday, October 30, 2002, Vol. 67, No. 210, Pages 66115-66125. All applications will be returned to the applicants by MBDA.

Authority: Executive Order 11625 and 15 U.S.C. 1512.

(Catalog of Federal Domestic Assistance (CFDA) 11.801 Native American Business Development Center)
Dated: February 24, 2003.
Juanita E. Berry,
Federal Register Liaison Officer, Minority Business Development Agency.

[FR Doc. 03-4697 Filed 2-27-03; 8:45 am]

BILLING CODE 3510-21-P